NATIONAL TRANSPORTATION SAFETY BOARD

Sunshine Act Meetings.

TIME AND DATE: 9:30 a.m., Tuesday, March 12, 2013.

PLACE: NTSB Conference Center, 429 L'Enfant Plaza SW., Washington, DC 20594.

STATUS: The one item is open to the public.

MATTER TO BE CONSIDERED: 8469

General Aviation Safety Education and Training: Five Safety Alerts, “Reduced Visual References Require Vigilance,” “Prevent Aerodynamic Stalls at Low Altitude,” “Is Your Aircraft Talking to You? Listen!,” “Mechanics: Manage Risks to Ensure Safety,” and “Pilots: Manage Risks to Ensure Safety.”

NEWS MEDIA CONTACT: Telephone: (202) 314-6100.

The press and public may enter the NTSB Conference Center one hour prior to the meeting for set up and seating.

Individuals requesting specific accommodations should contact Rochelle Hall at (202) 314-6305 or by email at Rochelle.Hall@ntsb.gov by Friday, March 8, 2013.

The public may view the meeting via a live or archived Webcast by accessing a link under “News & Events” on the NTSB home page at www.ntsb.gov.

Schedule updates including weather-related cancellations are also available at www.ntsb.gov.

FOR MORE INFORMATION CONTACT: Candi Bing, (202) 314-6403 or by email at bingc@ntsb.gov.

FOR MEDIA INFORMATION CONTACT: Peter Knudson, (202) 314-6100 or by email at peter.knudson@ntsb.gov.

Dated: Monday, February 25, 2013.
Candi R. Bing,
Federal Register Liaison Officer.

[FR Doc. 2013-04674 Filed 2-25-13; 4:15 pm]

BILLING CODE 7533-01-P